DEPARTMENT OF COMMERCE

International Trade Administration

(A-475-818)

Certain Pasta from Italy: Extension of Time Limits for the Preliminary Results of Twelfth Antidumping Duty Administrative Review

AGENCY: Import Administration, International Trade Administration, Department of Commerce.

FOR FURTHER INFORMATION CONTACT: Christopher Hargett, AD/CVD Operations, Office 3, Import Administration, International Trade Administration, U.S. Department of Commerce, 14th Street and Constitution Ave, NW, Washington, DC 20230; telephone (202) 482-4161

Background

On August 26, 2008, the U.S. Department of Commerce (“Department”) published a notice of initiation of the administrative review of the antidumping duty order on certain pasta from Italy, covering the period July 1, 2007 to June 30, 2008. See Initiation of Antidumping and Countervailing Duty Administrative Reviews, 73 FR 50308 (August 26, 2008). The preliminary results of this review are currently due no later than April 2, 2009.

Extension of Time Limit of Preliminary Results

Section 751(a)(3)(A) of the Tariff Act of 1930, as amended (“the Act”), requires the Department to make a preliminary determination within 245 days after the last day of the anniversary month of an order or finding for which a review is requested. Section 751(a)(3)(A) of the Act further states that if it is not practicable to complete the review within the time period specified, the administering authority may extend the 245-day period to issue its preliminary results by up to 120 days.

We determine that completion of the preliminary results of this review within the 245-day period is not practicable because the Department requested additional information from all interested parties regarding wheat code classifications for model match.¹ Wheat code classification is an integral part in making comparisons between home market and U.S. sales in the Department's margin calculations in this proceeding. Given the complexity of this issue and in accordance with section 751(a)(3)(A) of the Act and 19 CFR 351.213(h)(2), we are extending the time period for issuing the preliminary results of review by 120 days. Therefore, the preliminary results are now due no later than July 31, 2009. The final results continue to be due 120 days after publication of the preliminary results.

¹ See Memo from the Department entitled “Request for Comments on Wheat Code Classifications,” dated January 9, 2009.

This notice is issued and published pursuant to sections 751(a) and 777(i) of the Act.

Dated: March 9, 2009.
John M. Andersen,
Acting Deputy Assistant Secretary for Antidumping and Countervailing Duty Operations.

[FR Doc. E9-5668 Filed 3-13-09; 8:45 am]

BILLING CODE 3510-DS-S